ENVIRONMENTAL PROTECTION AGENCY

[FRL-7238-7]

Public Notice of Final NPDES General Permits for Facilities/Operations That Generate, Treat, and/or Use/Dispose of Sewage Sludge by Means of Land Application, Landfill, and Surface Disposal in EPA Region VIII

AGENCY: Environmental Protection Agency (EPA).

ACTION: Notice of issuance of NPDES general permits.

SUMMARY: Region VIII of EPA is hereby giving notice of its issuance of the National Pollutant Discharge Elimination System (NPDES) general permits for facilities or operations that generate, treat, and/or use/dispose of sewage sludge by means of land application, landfill, and surface disposal in the States of CO, MT, ND, and WY and in Indian country, as defined at 18 U.S.C. 1151, in the States of CO, MT, ND, SD, WY and UT (except for the Goshute Indian Reservation and the Navajo Indian Reservation). The effective date of the general permits is August 16, 2002.

The NPDES permit numbers and the areas covered by each general permit are listed below.

State | Permit No. | Area covered by the general permit
Colorado | COG650000 | State of Colorado except for Federal Facilities and Indian country
| COG651000 | Indian country within the State of Colorado and the portions of the Ute Mountain Indian Reservation located within the States of New Mexico and Utah.
| COG652000 | Federal Facilities in the State of Colorado, except those located in Indian country, which are covered under permit COG51000.
Montana | MTG650000 | State of Montana except for Indian country.
| MTG651000 | Indian country within the State of Montana.
North Dakota | NDG650000 | State of North Dakota except for Indian country.
| NDG651000 | Indian country within the State of North Dakota (except for Indian country located within the former boundaries of the Lake Traverse Indian Reservation, which are covered under permit SDG651000) and that portion of the Standing Rock Indian Reservation located within the State of South Dakota.
South Dakota | SDG651000 | Indian country within the State of South Dakota (except for the Standing Rock Indian Reservation, which is covered under permit NDG651000, that portion of the Pine Ridge Indian Reservation located within the State of Nebraska, and Indian country located within the State of North Dakota within the former boundaries of the Lake Traverse Indian Reservation).
Utah | UTG651000 | Indian country within the State of Utah except for the Ute Mountain Indian Reservation (which is covered under permit COG651000), the Goshute Indian Reservation, and the Navajo Indian Reservation.
Wyoming | WYG650000 | State of Wyoming except for Indian country.
| WYG651000 | Indian country within the State of Wyoming.

Coverage under the general permits may be for one of the following three categories: Category 1—Facilities/operations that generate and/or partially treat sewage sludge, but do not use/dispose of sewage sludge; Category 2—Facilities/operations that use/dispose of sewage sludge and may also generate and/or treat sewage sludge; and Category 3—Wastewater lagoon systems that need to land apply sewage sludge on an occasional, restricted basis. Coverage under the general permit will be limited to one of the three categories, but coverage may be granted to one or more subcategories under Category 2. In applying for coverage under the general permit, the applicant will be required to specify under which category or subcategory(s) coverage is being requested. However, the permit issuing authority will have the final determination as to which category or subcategory(s) the coverage will be granted. Facilities or operations that incinerate sewage sludge are not eligible for coverage under these general permits and must apply for an individual permit. The requirements in the permit for the use/disposal of sewage sludge are based primarily on 40 CFR 503.

The deadlines for applying for coverage under the general permits are given in the permits and the Fact Sheet. For most facilities/operations, the deadline is 90 days after the effective date of the permit. Wastewater lagoon systems that are not using/disposing of sewage sludge do not need to apply for permit coverage unless notified by the permit issuing authority.

DATES: The general permits become effective on August 16, 2002 and will expire five years from that date. For appeal purposes, the 120 day time period for appeal to the U.S. Federal Courts will begin August 16, 2002.

ADDRESSES: The public record is located at EPA Region 8, and is available upon written request. Requests for copies of the public record, including a complete copy of response to comments, a list of changes made from the draft permit to the final permit, the general permit, and the fact sheet for the general permit, should be addressed to William Kennedy,: NPDES PERMITS TEAM (8P-W-P); U.S. EPA, REGION VIII; 999 18TH STREET, SUITE 300; DENVER, CO 80202-2466 or telephone (303) 312-6285. Copies of the general permit, fact sheet, response to comments, and a list of changes from the draft permit to the final permit may also be downloaded from the EPA Region VIII web page at http://www.epa.gov/region08/water/wastewater/biohome/biohome.html. Please allow approximately one week after this notice for documents to be posted on the web page.

FOR FURTHER INFORMATION CONTACT: Questions regarding the specific permit requirements may be directed to Bob Brobst, telephone (303) 312-6129 or E-mail at brobst.bob@epa.gov.

SUPPLEMENTARY INFORMATION: Region VIII proposed and solicited comments on the general permits at 66 FR 793 (January 4, 2001). In addition, notices and copies of the draft general permit and Fact Sheet were sent to most publicly owned treatment works in Region VIII that would likely have to apply for coverage under the general permit. Comments were received from six facilities/operations that generate, treat, and/or use/dispose of sewage sludge. The comments covered a wide range of issues. Many of the issues were addressed in the final permit. The response to comments is included as part of the public record. Also, the public record includes a list of the changes made from the draft permit to the final permit. The U.S. Fish and Wildlife Service did not have any comments.

The States of South Dakota and Utah have been authorized as the permit authority for sewage sludge, therefore general permits will be issued only for Indian country in those States. The general permit for Indian country in Utah does not include the portions of the Goshute Indian Reservation and the Navajo Indian Reservation in Utah because the permitting activities for these reservations are done by Region IX of EPA. The State of Colorado has not been authorized as the permit authority for Federal facilities. Therefore, a separate general permit is being issued for Federal facilities in Colorado that are not located in Indian country.

On June 21, 2000 and September 21, 2000, U.S. District Judge Donald W. Molloy issued orders stating that until all necessary total maximum daily loads under section 303(d) of the Clean Water Act are established for a particular water quality limited segment, the EPA is not to issue any new permits or increase permitted discharges under the NPDES program. (See Friends of the Wild Swan, Inc. v. EPA, 130 F. Supp. 2nd 1199 (D. Mont. 2000); 130 F. Supp 2nd 1204 (D. Mont. 2000)) EPA finds that the issuance of these general permits does not conflict with this order, because (1) the permits do not authorize any point source discharges into waters of the United States and (2) as discussed under the “Protection of Public Health and The Environment” section of the Fact Sheet, the use and/or disposal of sewage sludge in compliance with the conditions of these permits is not likely to have any adverse effect on any waterbody in Montana that has been listed under section 303(d) of the Clean Water Act.

Since these permits do not involve discharges to waters of the United States, certification under section 401(a)(1) of the Clean Water Act is not necessary for the issuance of these permits and certification was not requested.

Appeal of Permit

Any interested person may appeal the “NPDES General Permit for Facilities/Operations That Generate, Treat, Use/Dispose of Sewage Sludge By Means of Land Application, Landfill, and Surface Disposal” in the Federal Court of Appeals in accordance with section 509(b)(1) of the Clean Water Act. This appeal must be filed within 120 days of the effective date of the permit. Persons affected by a general NPDES permit may not challenge the conditions of the permit as a right of further EPA proceedings. Instead, they may either challenge the permit in court or apply for an individual permit and then request a formal hearing on the issuance or denial on an individual permit.

Executive Order 12866: Under Executive Order 12866 (58 FR 51735 (Oct. 4, 1993)), the EPA must determine whether its regulatory actions are “significant” and therefore subject to review by the OMB. The EPA has determined that the issuance of these general permits is not a “significant regulatory action” under the terms of Executive Order 12866 and is therefore not subject to formal OMB review prior to proposal.

Paperwork Reduction Act: EPA has reviewed the requirements imposed on regulated facilities in these general permits under the Paperwork Reduction Act of 1980, 44 U.S.C. 3501 et seq. The information collection requirements of these permits have already been approved by the Office of Management and Budget in submissions made for the NPDES permit program under the provisions of the Clean Water Act.

Regulatory Flexibility Act (RFA): The RFA, as amended by the Small Business Regulatory Enforcement Fairness Act of 1996 (SBREFA), 5 U.S.C. 601 et seq, generally requires an agency to prepare a regulatory flexibility analysis of any rule subject to the notice and comment rulemaking requirements of 5 U.S.C. 553(b) or any other statute, unless the agency certifies that the rule will not have a significant economic impact on a substantial number of small entities. The permits issued today, however, are not a “rule” subject to the requirements of 5 U.S.C. 553(b) and are therefore not subject to the RFA.

Unfunded Mandates Reform Act: Section 201 of the Unfunded Mandates Reform Act (UMRA), Public Law 104-4, generally requires Federal agencies to assess the effects of their “regulatory actions” on tribal, state, and local governments and the private sector. “Regulatory actions” are defined as “rules” subject to the RFA. The permits issued today are not “rules” subject to the RFA; therefore, they are not subject to the requirements of the UMRA.

Authority: Clean Water Act, 33 U.S.C. 1251 et seq.

Dated: June 19, 2002.
Kerrigan G. Clough,
Assistant Regional Administrator, Office of Partnerships and Regulatory Assistance, Region VIII.

[FR Doc. 02-16272 Filed 7-1-02; 8:45 am]

BILLING CODE 6560-50-P